DEPARTMENT OF ENERGY

Federal Energy Regulatory Commission

[Docket No. RP04-362-001]

East Tennessee Natural Gas, LLC; Notice of Proposed Changes in FERC Gas Tariff

September 23, 2004.

Take notice that on September 16, 2004, East Tennessee Natural Gas, LLC (East Tennessee) tendered for filing as part of its FERC Gas Tariff, Third Revised Volume No. 1, the tariff sheets listed in Appendix A of the filing, to become effective July 1, 2004 and August 1, 2004.

East Tennessee states that the purpose of this filing is to reflect changes in tariff sheets that were pending before the Commission at the time East Tennessee filed on July 1, 2004, and to reflect its corporate name change.

East Tennessee states that copies of this filing have been served upon all affected customers of East Tennessee and interested state commissions, as well as all parties on the Commission's official service list in this proceeding.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “e-Filing” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Magalie R. Salas
Secretary.

[FR Doc. E4-2431 Filed 9-29-04; 8:45 am]

BILLING CODE 6717-01-P